DEPARTMENT OF THE INTERIOR

Bureau of Land Management

[NV-930-1430-00; NVN-74668]

Notice of Proposed Withdrawal and Opportunity for Public Meeting; Nevada

AGENCY: Bureau of Land Management, Interior.

ACTION: Notice.

SUMMARY: The Department of the Army, Corps of Engineers, has filed an application to withdraw 40 acres of public land for the United States Air Force to use as a safe zone for departing and arriving aircraft at the Nellis Air Force Base. The land was previously withdrawn by Public Land Order No. 5832, which has expired. The land is still needed as a safe zone.

DATE: Comments and requests for meeting should be received on or before March 21, 2002.

ADDRESS: Comments and meeting requests should be sent to the Nevada State Director, BLM, P.O. Box 12000, Reno, Nevada 89520.

FOR FURTHER INFORMATION CONTACT: Dennis J. Samuelson, BLM Nevada State Office, 775-861-6532.

SUPPLEMENTARY INFORMATION: The Department of the Army, Los Angeles District, Corps Engineers, on behalf of the United States Air Force, has filed an application to withdraw the following described public land from settlement, sale, location, or entry under the general land laws, including the mining laws, subject to valid existing rights:

Mount Diablo Meridian

T. 19 S., R. 62 E.,

sec. 35, SE¼SW¼.

The area described contains 40 acres in Clark County.

The purpose of the proposed withdrawal is for a clear zone near the end of the runway at the Nellis Air Force Base. The land was previously withdrawn as a clear zone by Public Land Order No. 5832, which expired in January 2001. The clear zone is critical to support the mission of the Nellis Air Force Base.

For a period of 90 days from the date of publication of this notice, all persons who wish to submit comments, suggestions, or objections in connection with the proposed withdrawal may present their views in writing to the Nevada State Director of the Bureau of Land Management.

Notice is hereby given that an opportunity for a public meeting is afforded in connection with the proposed withdrawal. All interested persons who desire a public meeting for the purpose of being heard on the proposed withdrawal must submit a written request to the Nevada State Director within 90 days from the date of publication of this notice. Upon determination by the authorized officer that a public meeting will be held, a notice of the time and place will be published in the Federal Register at least 30 days before the scheduled date of the meeting.

The application will be processed in accordance with the regulations set forth in 43 CFR Part 2300.

Dated: November 26, 2001.
Jim Stobaugh,
Lands Team Lead.

[FR Doc. 01-31405 Filed 12-20-01; 8:45 am]

BILLING CODE 4310-HC-P